DEPARTMENT OF AGRICULTURE

Forest Service

Uinta National Forest, UT; Indian Springs Road Realignment Environmental Impact Statement

AGENCY: Forest Service, USDA.

ACTION: Notice of intent to prepare an environmental impact statement.

SUMMARY: The Uinta National Forest is initiating the preparation of an Environmental Impact Statement for the Indian Springs Road Realignment.

DATES: Comments concerning the scope of the analysis must be postmarked or received within 30 days from date of publication of this notice in the Federal Register to ensure full consideration. The draft environmental impact statement is expected August 2007 and the final environmental impact statement is expected November 2007.

ADDRESSES: Please submit issues or concerns to the Responsible Official: Julie King, Heber District Ranger, 2460 South Highway 40, P.O. Box 190, Heber City, UT 84032; by phone at 435-654-0470; or by fax 435-654-5772. E-mail comments to intermtn-heber@fs.fed.us; e-mails must be submitted in MS Word (*.doc) or rich text format (*.rtf) and should include the project name in the subject line. Oral comments as well as written comments may also be submitted at the above address during regular business hours of 8 a.m. to 5 p.m., Monday-Friday, excluding Federal holidays.

Each individual or representative from each organization submitting comments must either sign the comments or otherwise verify identity in order to attain appeal eligibility. Comments received in response to this solicitation, including names and addresses of those who comment, will be considered part of the public record for this project.

FOR FURTHER INFORMATION CONTACT: Information regarding this project will be posted on the Uinta National Forest's Web site: http://www.fs.fed.us/r4/uinta/projects/nepa. For additional information, please contact Jim Percy.

SUPPLEMENTARY INFORMATION:

Purpose and Need for Action

The purpose of the Proposed Action is to reduce adverse impacts to watershed and fisheries, provide safer driving conditions while maintaining access to Strawberry Ridge from the south. The Proposed Action is needed because currently the road is a single lane, native surface primarily located within 50 feet of Indian Creek; several sections of the road are within the stream channel.

Proposed Action

The Proposed Action would relocate the existing Indian Springs Road. Work would include the construction of 1.9 miles at an upland and drier location and obliteration and restoration of 1.6 miles of the existing road in riparian area. The relocated road will be a 16 feet wide, single lane with turnouts, drainage structures and gravel surface. This new alignment would substantially improve water quality through reduction of sediment production, enhanced habitat for fauna and floral species, provide safe infrastructure though improved horizontal and vertical alignment and reduce short and long term operation and maintenance costs.

Possible Alternatives

Three preliminary alternatives are being considered: (1) No action—The existing native surface, single lane road remains at its present location, which is within a riparian zone. (2) Proposed Action—Reconstruct a single lane road with turnouts along a new alignment and obliterate the entire length of existing alignment. (3) Alternative A—Reconstruct a single lane road with turnouts along a new alignment and obliterate a large portion of the existing alignment. Approximately 0.5 mile of dead-end road would remain to allow access for dispersed camping and for access to water for the livestock permittee.

Lead and Cooperating Agencies

The Uinta National Forest is the lead agency. Wasatch County is a cooperating agency.

Responsible Official

Julie King, Heber District Ranger, 2460 South Highway 40, Heber City, UT 84032; by phone at 435-654-0470; or by fax 435-654-5772.

Nature of Decision To Be Made

The Heber District Ranger will decide whether to authorize construction of the Indian Springs Road realignment and to close and rehabilitate the existing road.

Preliminary Issues

Key issues and concerns identified include impacts to inventoried roadless areas, health, safety, and transportation, watershed resources, aquatic species and livestock management.

Comment Requested

This notice of intent initiates the scoping process which guides the development of the environmental impact statement.

Early Notice of Importance of Public Participation in Subsequent Environmental Review

A draft environmental impact statement will be prepared for comment. The comment period on the draft environmental impact statement will be 45-days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Dated: May 16, 2007.
Julie K. King,
Heber District Ranger.

[FR Doc. E7-9791 Filed 5-21-07; 8:45 am]

BILLING CODE 3410-11-P